DEPARTMENT OF AGRICULTURE

Foreign Agricultural Service

Notice of Request for Approval of a New Information Collection

AGENCY: Foreign Agricultural Service, USDA.

ACTION: Notice and request for comments.

SUMMARY: In accordance with the Paperwork Reduction Act of 1995 (44 U.S.C. Chapter 35), this notice announces the intention of the Foreign Agricultural Service to request approval for a new information collection for General Administrative Policy for Cost-Reimbursable Agreements.

DATES: Comments on this notice must be received by November 14, 2014 to be assured of consideration.

Additional Information or Comments: Contact: Chris Coppenbarger, Grants Management Officer, Office of the Chief Operating Officer, MS-3118, U.S. Department of Agriculture, 1400 Independence Ave. SW., Washington, DC 20250; Tel: (202) 720-2568, Fax: (202) 690-4029, Email: christopher.coppenbarger@fas.usda.gov.

SUPPLEMENTARY INFORMATION:

The Foreign Agricultural Service (FAS) of the United States Department of Agriculture (USDA) intends to establish uniform guidelines for the use, award and administration of cost-reimbursable agreements entered into under the authority of 7 U.S.C. 3319a and subsequently to publish regulations on the use, award, and administration of such agreements. The intended effect is to issue agency regulations to reflect current statutory authority and long-held agency business practices.

Title: General Administrative Policy for Cost-Reimbursable Agreements.

OMB Number: 0551-New.

Expiration Date of Approval: Three years from approval date.

Type of Request: New information collection.

Estimate of Burden: Public reporting burden for this collection of information is estimated to average 4.0 hours per response.

Type of Respondents: U.S. institutions of higher education.

Estimated Number of Respondents: 250.

Estimated Number of Responses: 750.

Estimated Total Annual Burden on Respondents: 3,000.

Copies of this information collection can be obtained from Connie Ehrhart, the Agency Information Collection Coordinator, at (202) 690-1578 or email at Connie.Ehrhart@fas.usda.gov.

Abstract: This information collection is required to support the planned FAS guidelines and regulations regarding “General Administrative Policy for Cost-reimbursable Agreements” for agreements entered into under 7 U.S.C. 3319a. These guidelines establish the requirements for participation in the following FAS programs listed in the Catalog of Federal Domestic Assistance: 10.613, Faculty Exchange Program; 10.614, Scientific Cooperation Exchange Program with China; 10.777, Norman E. Borlaug International Agricultural Science and Technology Fellowship; 10.960, Technical Agricultural Assistance; 10.961, Scientific Cooperation and Research Program; 10.962, Cochran Fellowship Program-International Training-Foreign Participant. This information collection is necessary for FAS to manage, plan, and evaluate these programs and to ensure the proper and judicious use of government resources. Without the information collection, FAS would not be able to conduct any of the activities falling under the authorities and instruments listed above (i.e., the agency would not be able to develop projects, make or receive payments, monitor projects, identify financial and accounting errors, report to www.usaspending.gov, etc.).

FAS will determine the specific means of collection that will be used based on the availability of technology and, as applicable, (1) an informal agreement of FAS and the respondent, (2) the terms of a signed agreement between FAS and the respondent, or (3) the provision of written, procedural rules made publicly available by FAS to the respondent. The information will be collected via phone calls, emails, fax, postal mail, person-to-person meetings, as data entry into grant management system(s), and/or any other commonly used means of communication available to both parties. FAS will encourage the respondent to use modern information technology to reduce the administrative burden whenever possible. Respondents that meet user criteria and choose to utilize the FAS's electronic grants management system will not be required to provide duplicate information for subsequent or current transactions. Any party may initiate a conversation at any time to discuss the possibility of entering into a non-assistance cooperative agreement.

FAS uses the following forms to obtain information from respondents (program applicants and awardees) regarding their eligibility for, and participation in, its programs:

1. FAS-2013-240-003, Cost-reimbursable Agreements and Attachment A Provisions.

2. FAS-2013-240-009, FAS Grants and Agreements Cover Sheet.

3. Form FAS-2013-240-011, FAS Detailed Budget Form.

4. Form FAS-2013-240-012, FAS Project Description Form.

5. Form SF-424 (used for both construction or non-construction), Application for Federal Assistance.

6. Form SF-424A, Budget Information; Non-Construction Programs.

7. Form AD-3030, Representations Regarding Felony Conviction and Tax Delinquent Status.

8. Form SF-LLL, Disclosure of Lobbying Activities.

9. Form AD-3031, Assurance Regarding Felony Conviction or Tax Delinquent Status.

10. SF-425, Federal Financial Report.

11. SF-425A, Federal Financial Report Attachment.

12. SF-270, Request for Advance or Reimbursement.

13. SF-428, Tangible Personal Property Report.

14. SF-428-A, Annual Report.

15. SF-428-B, Final Report Form.

16. SF-428-C, Disposition Request/Report.

17. SF-428-S, Supplemental Form.

18. FAS-2013-240-007, Modification Form.

19. FAS-2013-240-010, Closeout (Modification) of Award Form.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Chris Coppenbarger, Grants Management Officer, Office of the Chief Operating Officer, MS-3118, U.S. Department of Agriculture, 1400 Independence Ave. SW., Washington, DC 20250, Email: christopher.coppenbarger@fas.usda.gov. Persons with disabilities who require an alternative means for communication of information (e.g., Braille, large print, audiotape, etc.) should contact USDA's Target Center at (202) 720-2600 (voice and TDD).

All comments received will be available for public inspection during regular business hours at the same address.

All responses to this notice will be summarized and included in the request for OMB approval. All comments will become a matter of public record.

Signed at Washington, DC, on August 19, 2014.
Philip C. Karsting,
Administrator, Foreign Agricultural Service.

[FR Doc. 2014-21891 Filed 9-12-14; 8:45 am]

BILLING CODE 3410-10-P